DEPARTMENT OF HEALTH AND HUMAN SERVICES

Office of the Secretary

[Document Identifier: 0990-0419-60D]

Agency Information Collection Activities; Proposed Collection; Public Comment Request

AGENCY: Office of the Secretary, HHS.

ACTION: 60-Day notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0419, which expires on June 30, 2017. Prior to submitting the ICR to OMB, OS seeks comments from the public regarding the burden estimate, below, or any other aspect of the ICR.

DATES: Comments on the ICR must be received on or before March 27, 2017.

ADDRESSES: Submit your comments to Information.CollectionClearance@hhs.gov or by calling (202) 690-5683.

SUPPLEMENTARY INFORMATION: When submitting comments or requesting information, please include the document identifier 0990-0419-60D for reference.

Information Collection Request Title: Acquisition Regulation Clause Patent Rights and Rights and Data.

OMB No.: 0990-0419.

Abstract: The Department of Health and Human Services; Office of the Assistant Secretary for Financial Resources and Office of Grants and Acquisition Policy and Accountability, Division of Acquisition, is requesting an approval by OMB for an extension of a previously approved information collection request, 0990-0419—Acquisition Regulation Clause Patent rights and Rights in Data. HHS found that systematically, over a period of several years, when Determination of Exceptional Circumstances (DEC) were executed, additional legal protection for the patent and data rights of third parties beyond those covered by FAR 27.306 were necessary. A DEC is executed consistent with the policy and objectives of the Bayh-Dole Act, 35 U.S.C. 200, et seq., to ensure that subject inventions made under contracts and subcontracts (at all tiers) are used in a manner to promote free competition and enterprise without unduly encumbering future research and discovery; to encourage maximum participation of small business firms in federally supported research and development efforts; to promote collaboration between commercial concerns and nonprofit organizations including universities; to ensure that the Government obtains sufficient rights in federally supported inventions to meet its needs; to protect the public against nonuse or unreasonable use of inventions; and in the case of fulfilling the mission of the U.S. Department of Health and Human Services, to ultimately to benefit the public health.

Likely Respondents: Administrative, technical, legal and management personnel.

The total annual burden hours estimated for this ICR are summarized in the table below.

Total Estimated Annualized Burden—Hours
Information collection | Type of respondent and hours for each | Number of respondents | Number of responses per respondent | Average burden per response (hours) | Total burden hours
(a) | Technical (4) Legal (2) Management (2) | 63 | 1 | 8 | 504
(b) | Technical (8) Legal (2) Management (2) | 63 | 1 | 12 | 756
(c) | Technical (8) Legal (3) Management (1) | 63 | 3 | 12 (36) | 2268
(d) | Technical (8) Legal (4) Management (2) | 63 | 3 | 14 (42) | 2646
(e) | Technical (6) Legal (2) Management (2) | 63 | 1 | 10 | 630
(f) | Technical (4) Legal (2) Management (2) | 63 | 1 | 8 | 504
(g) | Administrative (8) | 63 | 3 | 8 (24) | 1512
(h) | Administrative (2) Management (1) | 63 | 3 | 3 (9) | 567
(i) | Technical (4) Legal (2) Management (2) | 63 | 3 | 8 (24) | 1512
Total |  | 63 | 19 | 83 (173) | 10,899

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2017-01759 Filed 1-25-17; 8:45 am]

BILLING CODE 4150-24-P